DEPARTMENT OF AGRICULTURE

Foreign Agricultural Service

Trade Adjustment Assistance for Farmers

AGENCY: Foreign Agricultural Service, USDA.

ACTION: Notice.

On March 22, 2007, the Administrator, Foreign Agricultural Service (FAS), denied a petition for trade adjustment assistance (TAA) for avocados that was filed on February 17, 2007, by the California Avocado Commission.

SUPPLEMENTARY INFORMATION: Upon investigation, the Administrator determined that imports from Mexico for the November 1, 2005, through October 31, 2006, marketing year declined by 2 percent from the same period in 2005/2006. Since imports declined during the marketing year, the petition did not meet the increasing imports requirement, a condition required for certifying a petition for TAA.

FOR FURTHER INFORMATION, CONTACT: Jean-Louis Pajot, Coordinator, Trade Adjustment Assistance for Farmers, FAS, USDA, (202) 720-2916, e-mail: trade.adjustment@fas.usda.gov.

Dated: March 23, 2007.
W. Kirk Miller,
Administrator, Foreign Agricultural Service.

[FR Doc. E7-6469 Filed 4-5-07; 8:45 am]

BILLING CODE 3410-10-P